DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: The National Health Service Corps Loan Repayment Program (OMB No. 0915-0127)—Extension

The National Health Service Corps (NHSC) Loan Repayment Program (LRP) was established to assure an adequate supply of trained primary care health care professionals to provide services in the neediest Health Professional Shortage Areas (HPSAs) of the United States. Under this program, the Department of Health and Human Services agrees to repay the educational loans of the primary care health professionals. In return, the health professionals agree to serve for a specified period of time in a federally designated HPSA approved by the Secretary for LRP participants. The NHSC LRP forms provide information that is needed for select, award, and monitor participants. The LRP forms include the following: the NHSC LRP Application, the Employment Verification and Community Site Information form, the Loan Information and Verification form, the Authorization to Release Information form, the Applicant Checklist, and the Self-Certification form.

The annual estimate of burden is as follows:

Instrument | Number of respondents | Responses/respondent | Total responses | Hours per response | Total burden hours
NHSC LRP Application | 5,175 | 1 | 5,175 | 0.30 | 1,553
Employment Verification—Community Site Information Form | 5,175 | 1 | 5,175 | 0.75 | 3,881
Loan Information and Verification Form | 5,175 | 3 | 15,525 | 0.30 | 4,658
Authorization To Release Information | 5,175 | 1 | 5,175 | 0.10 | 518
Applicant Checklist | 5,175 | 1 | 5,175 | 0.25 | 1,294
Self-Certification Form | 5,175 | 1 | 5,175 | 0.10 | 518
Lenders | 65 | 1 | 65 | 0.30 | 20
Total | 5,240 |  | 41,465 |  | 12,442

E-mail comments to paperwork@hrsa.gov or mail the HRSA Reports Clearance Officer, Room 10-33, Parklawn Building, 5600 Fishers Lane, Rockville, MD 20857. Written comments should be received within 60 days of this notice.

Dated: March 31, 2010.
Sahira Rafiullah,
Director, Division of Policy and Information Coordination.

[FR Doc. 2010-7934 Filed 4-7-10; 8:45 am]

BILLING CODE 4165-15-P